INTERNATIONAL TRADE COMMISSION

[Inv. No. 337-TA-1453]

Certain Boiler Protection for Absorption Refrigeration Systems and Components Thereof; Institution of Investigation

AGENCY: U.S. International Trade Commission

ACTION: Notice

SUMMARY: Notice is hereby given that a complaint was filed with the U.S. International Trade Commission on May 14, 2025, under section 337 of the Tariff Act of 1930, as amended, on behalf of ARPC LLC and Paul Unmack of Butte, Montana. A supplement was filed on May 23, 2025. The complaint alleges violations of section 337 based upon the importation into the United States, the sale for importation, and the sale within the United States after importation of certain boiler protection for absorption refrigeration systems and components thereof by reason of the infringement of certain claims of U.S. Patent No. 8,056,360. The complaint further alleges that an industry in the United States exists as required by the applicable Federal Statute. The complainants request that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2025).

Scope of Investigation: Having considered the complaint, the U.S. International Trade Commission, on June 13, 2025, Ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 4, 6, and 10 of the '360 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “RV refrigerator boiler protection and their components and accessories”;

(3) For the purpose of the investigation so instituted, the following are hereby named as parties upon which this notice of investigation shall be served:

(a) The complainants are:

ARPC LLC, and Paul N. Unmack, 3024 Wharton, Butte, MT 59701

(b) The respondents are the following entities alleged to be in violation of section 337, and are the parties upon which the complaint is to be served:

Kuofanghenanmaoyiyouxiangongsi, LongRunZhuang, WangJiaYuan, 2Hao Yuan, 2 Hao Luo, 2 DanYuan, 2603 Shi, Zheng Zhou, He Nan, 450000, China

Wuhujiaoxiangdianzishangwuyouxiangongsi, XinWuJingJiKaiFaQuGongYeDaDao, 369 Hao, FuLong, DianShang, ChanYeYuan, A Dong, A4-14, Wu Hu, An Hui, 241100, China

Wang Hai Ping, BaiYunQu, JiangXiaBeiZhongLu, 8 Hao, C Dong, 609 Shi, Guang Zhou, Guang Dong, 510080, China

Shenzhenshi Xiangfan Xinxizixun Youxiangongsi, MinZhi JieDao XinNiu She Qu, GangShen Guoji ZhongXin D11-14, Shen Zhen, Guang Dong, 518000, China

Ruianshichensumaoyiyouxiangongsi, Ding Tian Jie Dao, Liang Qian Chun, (Long Chun He Zhou Ying Hang), WenZhou Rui An, Zhe Jiang, 325200, China

Qingyuannuozedianzishangwuyouxianzerengongsi, YingCheng Jie Dao, BiGuiYuan, Yunjing, 3 Hao Luo, 1702 Fang, QinYuan YingDe, GuangDong, 513000, China

Wuhu Tianhao e-commerce Co., Ltd, LinAn Wu Liu Yuan 1 Qi, 12 Dong, 202 Shi, Wu Hu, An Hui, 241100, China

shen zhen shi hong kang da ke ji you xian gong si, LongGang Qu, JuYin KeJi GongYeYuan, NanWan JieDao, H dong 101, Shen Zhen, Guang Dong, 518000, China

guangzhou yingpeng dianzi shangwu youxiangongsi, TianHe Qu, Huang Cun Bei Lu, 26 Hao, D Qu, 2 Lou, 60397 Shi, Guang Zhou, Guang Dong, 510000, China

shen zhen shi xing han xing dian zi shang wu you xian gong si, 25 Gao Xin Nan Si Dao, NanShan, Shen Zhen, Guang Dong, 518000, China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 13, 2025.
Susan Orndoff,
Acting Secretary to the Commission.

[FR Doc. 2025-11187 Filed 6-17-25; 8:45 am]

BILLING CODE 7020-02-P